DEPARTMENT OF HOUSING AND URBAN DEVELOPMENT

[Docket No. FR-5561-D-03]

Designation by the Chief Procurement Officer of Contracting Officers

AGENCY: Office of the Chief Procurement Officer, HUD.

ACTION: Notice of designation.

SUMMARY: In this notice, the Chief Procurement Officer (CPO) designates specified procurement positions as contracting officers.

DATES: Effective Date: August 19, 2011.

FOR FURTHER INFORMATION CONTACT: Elie F. Stowe, Assistant Chief Procurement Officer for Policy and Systems, Office of the Chief Procurement Officer, Department of Housing and Urban Development, 451 7th Street, SW., Room 5276, Washington, DC 20410-3000, telephone number 202-708-0294 (this is not a toll-free number). Persons with hearing or speech impairments may access this number through TTY by calling the toll-free Federal Relay Service at 800-877-8339.

SUPPLEMENTARY INFORMATION: This notice includes the designation of the Deputy Chief Procurement Officer, the Assistant Chief Procurement Officer for Program Operations, the Assistant Chief Procurement Officer for Support Operations, and the Assistant Chief Procurement Officer for Field Operations as contracting officers.

Section A. Designation

The CPO hereby designates the Deputy Chief Procurement Officer, the Assistant Chief Procurement Officer for Program Operations, the Assistant Chief Procurement Officer for Support Operations, and the Assistant Chief Procurement Officer for Field Operations as contracting officers; any limitation(s) on the use of those appointments shall be set forth within individual Certificate(s) of Appointment.

Section B. No Authority To Further Redesignate

The authority conveyed in the designations in Section A does not include the authority to further redesignate contracting officers by individuals holding the named positions. The CPO is the sole official authorized to appoint contracting officers within the Department.

Section C. Authority Superseded

This designation supersedes all previous designations from the CPO concerning specified procurement positions as contracting officers.

Authority: 41 U.S.C. 414; Section 7(d) of the Department of Housing and Urban Development Act (42 U.S.C. 3535(d)).

Dated: August 19, 2011.
Jemine A. Bryon,
Chief Procurement Officer.

[FR Doc. 2011-22190 Filed 8-29-11; 8:45 am]

BILLING CODE 4210-67-P